DEPARTMENT OF THE INTERIOR

Fish and Wildlife Service

[FWS-R-ES-2008-N0038; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before March 31, 2008.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-174276

Applicant: Bio Spatial Solutions, LLC, Elk Grove, California.

The applicant requests an amendment to take (capture, collect, kill, and hatch cysts) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and research throughout the range of each species in California, for the purpose of enhancing their survival.

Permit No. TE-174305

Applicant: Vandenberg Air Force Base, Vandenberg AFB, California.

The applicant requests an amendment to take (survey, locate, and monitor nests) the least Bell's vireo (Vireo bellii pusillus) and the Southwestern willow flycatcher (Empidonax traillii extimus); take (survey, capture, and release) the unarmored threespine stickleback (Gasterosteus aculeatus williamsoni) and tidewater goby (Eucyclogobius newberryi); take (survey by pursuit) the El Segundo Blue butterfly (Euphilotes battoides allyni), and remove/remove to possession the Rorippa gambellii (Gambel's watercress), Hemizonia increscens ssp. villosa (Gaviota tarplant), Layia carnosa (Beach layia), Eriodictyon capitatum (Lompoc Yerba Santa), and Cirsium loncholepis (La Graciosa thistle) from Federal lands, in conjunction with surveys and population monitoring throughout Vandenberg Air Force Base in California, for the purpose of enhancing its survival.

Permit No. TE-058073

Applicant: Susan Christopher, Santa Margarita, California.

The permittee requests an amendment to take (harass by survey, capture, handle, and release) the California tiger salamander (Ambystoma californiense) in conjunction with surveys throughout the range of the species in California, for the purpose of enhancing its survival.

Permit No. TE-172629

Applicant: Christina Sloop, Santa Rosa, California.

The applicant requests an amendment to remove/remove to possession the Limnanthes floccosa ssp. Californica (Butte County meadowfoam), Limnanthes vinculans (Sebastopol meadowfoam), Lasthenia burkei (Burke's goldfields), and Plennosperma bakeri (Sonoma sunshine) from federal lands in conjunction with genetic sampling for the purpose of enhancing their survival.

Permit No. TE-122602

Applicant: Joseph B. Platt, Irvine, California.

The applicant requests an amendment to take (harass by survey) the Southwestern willow flycatcher (Empidonax traillii extimus) in conjunction with surveys throughout the range of the species in California and Arizona, for the purpose of enhancing its survival.

Permit No. TE-875386

Applicant: California Cooperative Research Unit, Arcata, California.

The applicant requests an amendment to remove/remove to possession the Amsinckia grandiflora (Large flowered fiddleneck), Cordylanthus mollis spp. mollis (Soft bird's beak), Erysimum captitatum ssp. angustatum (Contra Costa wallflower), Lasthenia conjugens (Contra Costa goldfields), Oenthera deltoids ssp. howelii, (Antioch Dunes evening primrose), Orcuttia tenuis, (Slender orcutt grass), Orcuttia viscida, (Sacramento Orcutt grass), and Tuctoria mucronata, (Solano grass) from federal lands in conjunction with botanical surveys for the purpose of enhancing their survival.

Permit No. TE-175385

Applicant: Ammon M. Rice, Roseville, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

Permit No. TE-108093

Applicant: Daniele Tannourji, Santa Cruz, California.

The applicant requests an amendment to remove/remove to possession the Lasthenia conjugens (Contra Costa goldfields) from federal lands in conjunction with botanical surveys and germination studies for the purpose of enhancing their survival.

We solicit public review and comment on each of these recovery permit applications. Comments and materials we receive will be available for public inspection, by appointment, during normal business hours at the address listed in the ADDRESSES section of this notice.

Dated: February 25, 2008.
Michael Fris,
Acting Regional Director, Region 8, Sacramento, California.

[FR Doc. E8-3900 Filed 2-28-08; 8:45 am]

BILLING CODE 4310-55-P